DEPARTMENT OF COMMERCE

International Trade Administration

[A-580-891]

Carbon and Alloy Steel Wire Rod From the Republic of Korea: Final Results of Antidumping Duty Administrative Review; 2022-2023

AGENCY: Enforcement and Compliance, International Trade Administration, Department of Commerce.

SUMMARY: The U.S. Department of Commerce (Commerce) determines that carbon and alloy steel wire rod (wire rod) from the Republic of Korea (Korea) were sold in the United States at less than normal value during the period of review (POR), May 1, 2022, through April 30, 2023.

DATES: Applicable October 18, 2024.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On June 5, 2024, Commerce published the Preliminary Results of this administrative review in accordance with sections 751(a)(1) and 777(i)(1) of the Tariff Act of 1930, as amended (the Act).¹ POSCO/POSCO International Corporation (PIC) is the sole producer and exporter that is subject to this administrative review.

¹ See Carbon and Alloy Steel Wire Rod from the Republic of Korea: Preliminary Results of Antidumping Duty Administrative Review; 2022-2023, 89 FR 48145 (June 5, 2024) (Preliminary Results), and accompanying Preliminary Decision Memorandum (PDM).

In July 2024, POSCO requested a public hearing and subsequently withdrew its request.² POSCO also filed a case brief.³ No other interested party submitted a case or rebuttal brief. On July 22, 2024, Commerce tolled certain deadlines in this administrative proceeding by seven days.⁴ The deadline for the final results is now October 10, 2024. For a summary of the events that occurred since the Preliminary Results, see the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx. Commerce conducted this review in accordance with section 751(a) of the Act.

² See POSCO's Letters, “Request for Public Hearing,” dated July 5, 2024, and “Withdrawal of Request for Public Hearing,” dated July 30, 2024.

³ See POSCO's Letter, “POSCO's Case Brief,” dated July 15, 2024.

⁴ See Memorandum, “Tolling of Deadlines for Antidumping and Countervailing Duty Proceedings,” dated July 22, 2024.

⁵ Memorandum, “Issues and Decision Memorandum for the Final Results of the Administrative Review of Carbon and Alloy Steel Wire Rod from the Republic of Korea; 2022-2023,” dated concurrently with, and hereby adopted by, this notice (Issues and Decision Memorandum).

Scope of the Order ⁶

⁶ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018) (Order).

The scope of the Order includes certain hot-rolled products of carbon steel and alloy steel, in coils, of approximately round cross section, less than 19.00 mm in actual solid cross-sectional diameter. For a complete description of the scope of the Order, see the Issues and Decision Memorandum.⁷

⁷ See Issues and Decision Memorandum.

Changes Since the Preliminary Results

For reasons explained in the Issues and Decision Memorandum, we changed the time periods for the Cohen's d test, and corrected an error in the adjustment calculation for the indirect selling expense ratio.⁸ For a more detailed discussion of the changes, see the Issues and Decision Memorandum.⁹

⁸ See Memorandum, “Final Calculation Memorandum for POSCO,” dated concurrently with this notice.

⁹ See generally Issues and Decision Memorandum.

Final Results of the Review

We determine that the following estimated weighted-average dumping margin exists for the period May 1, 2022, through April 30, 2023:

¹⁰ In the 2020-2021 administrative review of the Order, we found that POSCO and PIC are affiliated and should be treated as a single entity. See Carbon and Alloy Steel Wire Rod from the Republic of Korea: Preliminary Results of Antidumping Duty Administrative Review; 2020-2021, 87 FR 33468 (June 2, 2022), and accompanying PDM at 5-10, unchanged in Carbon and Alloy Steel Wire Rod from the Republic of Korea: Final Results of Antidumping Duty Administrative Review; 2020-2021 (October 4, 2022). In the absence of information demonstrating any changes, we are continuing to treat POSCO and PIC as a single entity for purpose of this administrative review.

Producer/exporter | Weighted- average dumping margin (percent)
POSCO/POSCO International Corporation ¹⁰ | 0.85

Disclosure

We intend to disclose to interested parties the corrected margin calculation program within five days of the publication date of this notice, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.¹¹ Because POSCO's weighted-average dumping margin is above de minimis, we calculated importer-specific ad valorem duty assessment rates by dividing the total amount of antidumping duties calculated for the examined sales by the total entered value of the examined sales to that importer.

¹¹ See Antidumping Proceeding: Calculation of the Weighted-Average Dumping Margin and Assessment Rate in Certain Antidumping Duty Proceedings; Final Modification, 77 FR 8101 (February 14, 2012).

In accordance with Commerce's practice, for entries of subject merchandise during the POR produced by POSCO for which it did not know its merchandise was destined for the United States, we intend to instruct CBP to liquidate such entries at the all-others rate if there is no company-specific rate for the intermediate company(ies) involved in the transaction.¹²

¹² See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) the cash deposit rate for POSCO will be will be the rates established in these final results of the review; (2) for previously-investigated companies not participating in this review, the cash deposit rate will continue to be the company-specific rate published for the most recently completed segment of this proceeding; (3) if the exporter was not covered in this review or the investigation, but the producer was covered, the cash deposit rate will be the rate established in the most recently completed segment of this proceeding for the producer of subject merchandise; and (4) the cash deposit rate for all other producers or exporters will continue to be 41.10 percent, the all-others rate established in the original less-than-fair-value investigation.¹³ These cash deposit requirements, when imposed, shall remain in effect until further notice.

¹³ See Order, 83 FR at 23419.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order (APO)

This notice also serves as the only reminder to parties subject to an APO of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213(h) and 351.221(b)(5).

Dated: October 10, 2024.
Scot Fullerton,
Acting Assistant Secretary for Enforcement and Compliance.

Appendix

List of Topics Discussed in the Issues and Decision Memorandum

I. Summary

II. Background

III. Scope of the Order

IV. Changes Since the Preliminary Results

V. Discussion of the Issues

Comment 1: Time Periods for the Cohen's d Test

Comment 2: Whether To Grant a Constructed Export Price Offset

Comment 3: Whether To Make Cost Adjustment for Inputs Sourced From Affiliated Suppliers

Comment 4: Whether To Reverse Adjustments to POSCO's Indirect Selling Expense Ratios or Correct an Error in the Adjustment Calculation

VI. Recommendation

[FR Doc. 2024-24089 Filed 10-17-24; 8:45 am]

BILLING CODE 3510-DS-P